DEPARTMENT OF THE TREASURY

Internal Revenue Service

Internal Revenue Service Advisory Council (IRSAC); Nominations

AGENCY: Internal Revenue Service, Department of the Treasury.

ACTION: Request for nominations.

SUMMARY: The Internal Revenue Service (IRS) is accepting applications for the 2025 Internal Revenue Service Advisory Council (IRSAC), including nominees for a new subcommittee focused on fairness issues. IRSAC members are drawn from substantially diverse backgrounds representing a cross-section of the taxpaying public with substantial, disparate experience in: tax preparation for individuals, small businesses and large, multi-national corporations; tax-exempt and government entities; information reporting; taxpayer or consumer advocacy; fairness in tax administration; and civil rights and community engagement. Nominations of qualified individuals may come from individuals or organizations.

DATES: Applications must be received on or before May 31, 2024.

ADDRESSES: Applications should be submitted to IRS National Public Liaison via email to publicliaison@irs.gov or electronic fax to 855-811-8021. Applications are available on the IRS website at https://www.irs.gov/irsac.

FOR FURTHER INFORMATION CONTACT: Anna Millikan at 202-317-6564 (not a toll-free number) or send an email to publicliaison@irs.gov.

SUPPLEMENTARY INFORMATION: The IRSAC serves as an advisory body to the IRS commissioner and agency leadership. The group is organized under the Federal Advisory Committee Act, 5 U.S.C. 10, and includes volunteer members with a diverse set of interests in tax issues. IRSAC provides an organized forum for discussion of relevant tax administration issues between IRS officials and representatives of the public.

The advisory council: proposes enhancements to IRS operations; recommends administrative and policy changes to improve taxpayer services, fairness in tax administration and compliance; discusses issues and recommends solutions relevant to information reporting; addresses matters concerning tax exempt and government entities; and conveys the public's perception of professional standards and best practices for tax professionals.

In addition, this January IRSAC will launch its first-ever Subcommittee on Fairness in Tax Administration. This subcommittee will review and issue specific recommendations related to fairness in tax administration for low-income communities, communities of color and other historically underserved populations. The subcommittee will focus on how the IRS can address tax administration disparities that may keep some communities from fully benefiting from and contributing to the nation's economic growth and prosperity. Potential focus areas will include disparities in audit selection, tax credit uptake and financial access, scam prevention, data analysis as well as outreach and education strategies among others.

The new IRSAC Subcommittee on Fairness in Tax Administration will closely coordinate with the Treasury Advisory Committee on Racial Equity (TACRE) which previously provided recommendations to Treasury and IRS on addressing racial disparities in audit selection.

IRSAC members are appointed to three-year terms by the IRS commissioner and submit a report to IRS leadership annually at a public meeting. Applications are currently being accepted for appointments that will begin in January 2025.

Nominations of qualified individuals may come from individuals or organizations. IRSAC members are drawn from diverse backgrounds representing a cross-section of the taxpaying public with experience in: tax preparation for individuals, small businesses and large multi-national corporations; tax exempt and government entities; information reporting; taxpayer or consumer advocacy; fairness in tax administration; and civil rights and community engagement.

Applications should document the proposed member's qualifications. Applicants must be in good standing with their own tax obligations and demonstrate high professional and ethical standards. In accordance with the Department of Treasury Directive 21-03, all applicants must apply and pass a tax compliance and practitioner check. For those applicants deemed “best qualified,” FBI fingerprint checks are required.

The IRSAC is also seeking applicants with specific knowledge and background in the following areas:

Individual Wage & Investment—Knowledge of tax law application/tax preparation experience, income tax issues related to refundable credits, including tax credit uptake, experience educating on tax issues and topics (especially outreach to and engagement with underserved communities), with multi-lingual taxpayer communications, with prevention of tax-related scams and schemes, with taxpayer advocacy or contact center operations, with civil rights, marketing/applying industry benchmarks to operations, with tax software industry, deductions, withholding, or other information for tax purposes; familiarity with IRS tax forms and publications; familiarity with IRS's online applications (e.g., Online Account, EITC Assistant, etc.); background with knowledge of technology innovations in public and private customer service sectors; experience in application and use of qualitative and quantitative data for use in improving taxpayer/customer experience, including for addressing audit disparities.

Information Reporting—Knowledge of banking industry and/or possess broker-dealer background with experience filing information returns; knowledge of payroll industry; experience with retirement withholding and reporting.

Large Business & International—Experience as a certified public accountant or tax attorney working in or for a large, sophisticated multinational organization; experience working in-house at a major firm dealing with tax planning for complex organizations including large multinational corporations and large partnerships.

Small Business & Self-Employed—Knowledge or experience with digital assets and/or peer to peer payment applications; knowledge of passthrough entities and/or fiduciary tax; experience with online or digital businesses, audit representation and/or educating on tax issues and topics; knowledge base and/or background related to Collection activities and balance due case resolution options; experience as a practitioner in underserved communities (e.g., where English is not the first language); experience with digitalization systems, tools, or processes; marketing experience to help with ideas for increasing uptake of digital tools offered by the IRS; knowledge of IRS modernization projects; understanding of the Inflation Reduction Act and how it will impact the IRS in the coming years; experience developing and/or delivering virtual presentations.

Tax Exempt & Government Entities—Experience with Indian tribal governments; experience in federal, state, or local governments; experience in tax-exempt bonds and/or employee plans.

The IRSAC holds approximately four, two-day working sessions and at least one public meeting per year. Members are not paid for their services; any travel expenses are reimbursed within federal government guidelines.

All applicants will be sent an acknowledgment of receipt.

Equal opportunity practices will be followed for all appointments to the IRSAC in accordance with the Department of Treasury and IRS policies. The IRS has special interest in assuring that women and men, members of all races and national origins, and individuals with disabilities have an opportunity to serve on advisory committees. Therefore, the IRS extends particular encouragement to nominations from such appropriately qualified candidates.

Dated: April 16, 2024.
John A. Lipold,
Designated Federal Officer, Office of National Public Liaison, Internal Revenue Service.

[FR Doc. 2024-08510 Filed 4-19-24; 8:45 am]

BILLING CODE 4830-01-P